FEDERAL COMMUNICATIONS COMMISSION

47 CFR Part 73

[DA No. 01-1079; MM Docket No. 01-25; RM-10055]

Radio Broadcasting Services; Northome, MN

AGENCY: Federal Communications Commission.

ACTION: Proposed rule; dismissal.

SUMMARY: This document dismisses a petition for rulemaking filed by PharrNorth Radio requesting the allotment of Channel 291A at Northome, Minnesota. See 66 FR 10266, February 14, 2001. PharrNorth withdrew its interest in an allotment at Northome, Minnesota, in accordance with Section 1.420(j) of the Commission's Rules. With this action, this proceeding is terminated.

FOR FURTHER INFORMATION CONTACT: Kathleen Scheuerle, Mass Media Bureau, (202) 418-2180.

SUPPLEMENTARY INFORMATION: This is a summary of the Commission's Report and Order, MM Docket No. 01-25, adopted April 18, 2001, and released April 27, 2001. The full text of this Commission decision is available for inspection and copying during normal business hours in the Commission's Reference Center, 445 12th Street, SW., Washington, DC. The complete text of this decision may also be purchased from the Commission's copy contractors, International Transcription Services, Inc., 1231 20th Street, NW., Washington, DC 20036, (202) 857-3800, facsimile (202) 857-3805.

List of Subjects in 47 CFR Part 73

Radio broadcasting.

Federal Communications Commission.
John A. Karousos,
Chief, Allocations Branch, Policy and Rules Division, Mass Media Bureau.

[FR Doc. 01-12089 Filed 5-14-01; 8:45 am]

BILLING CODE 6712-01-P